FEDERAL ELECTION COMMISSION

Sunshine Act Notices

Agency: Federal Election Commission.

Date & Time: Tuesday, July 23, 2002 at 10 a.m.

Place: 999 E Street, NW., Washington, DC.

Status: This meeting will be closed to the public.

Items to Be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

Date & Time: Thursday, July 25, 2002 at 10 a.m.

Place: 999 E Street, NW., Washington, DC (Ninth Floor).

Status: This meeting will be opened to the public.

Items to Be Discussed:

Correction and Approval of Minutes.

Draft Advisory Opinion 2002-08: David Vitter for Congress Committee by William J. Vanderbrook, Treasurer.

Final Rules and Explanation and Justification for the Reorganization of the Contribution and Expenditure Definitions (11 CFR 100.7 and 100.8).

Administrative Matters.

Person to Contact for Information: Mr. Ron Harris, Press Officer, Telephone: (202) 694-1220.

Mary W. Dove,
Secretary of the Commission.

[FR Doc. 02-18260 Filed 7-16-02; 12:00 pm]

BILLING CODE 6715-01-M